DEPARTMENT OF COMMERCE

National Oceanic and Atmospheric Administration

RIN 0648-XE166

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow four commercial fishing vessels to fish outside of the limited access sea scallop regulations in support of study investigating the effect different dredge tow cable scope ratios have on dredge pitch and catch rates using the Turtle Deflector Dredge and Low Profile Dredge designs.

Regulations under the Magnuson-Stevens Fishery Conservation and Management Act require publication of this notification to provide interested parties the opportunity to comment on applications for proposed Exempted Fishing Permits.

DATES: Comments must be received on or before September 25, 2015.

ADDRESSES: You may submit written comments by any of the following methods:

• Email: nmfs.gar.efp@noaa.gov. Include in the subject line “DA15-065 CFF Dredge Design Study EFP.”

• Mail: John K. Bullard, Regional Administrator, NMFS, Greater Atlantic Regional Fisheries Office, 55 Great Republic Drive, Gloucester, MA 01930. Mark the outside of the envelope “DA15-065 CFF Dredge Design Study EFP.”

FOR FURTHER INFORMATION CONTACT: Shannah Jaburek, Fisheries Management Specialist, 978-282-8456.

SUPPLEMENTARY INFORMATION: NOAA has preliminarily awarded the Coonamesset Farm Foundation (CFF) a grant through the 2015 Saltonstall Kennedy grant program, in support of a project titled “Improving an Ecosystem Friendly Scallop Dredge.” To conduct this research, CFF submitted a complete application for an EFP on August 6, 2015. The project would look at the effect different scope ratios have on dredge pitch and catch rates using the Turtle Deflector Dredge (TDD) and Low Profile Dredge (LPD) designs. The project would also utilize an underwater camera attached to the dredge frames to capture fish dredge interactions.

CFF is requesting exemptions that would allow four commercial fishing vessels be exempt from the Atlantic sea scallop days-at-sea (DAS) allocations at 50 CFR 648.53(b); crew size restrictions at § 648.51(c); and rotational closed area exemptions for Closed Area I at § 648.58(a), Closed Area II at § 648.58(b), and Nantucket Lightship at § 648.58(c). It would also exempt participating vessels from the Atlantic sea scallop observer program requirements at § 648.11(g) and from possession limits and minimum size requirements specified in 50 CFR part 648, subsections B and D through O, for sampling purposes only. Any fishing activity conducted outside the scope of the exempted fishing activity would be prohibited.

Four vessels would conduct scallop dredging in October 2015-April 2016, on four 7-day trips, for a total of 28 DAS. Each trip would complete approximately 50 tows per trip for an overall total of 200 tows for the project. Trips would take place in the open areas of southern New England and Georges Bank as well as in Georges Bank scallop access areas that are closed. Trips would be centralized around areas with high yellowtail and winter flounder bycatch and in areas that contain a wide range of scallop sizes to examine changes in size selectivity due to dredge design and wire scope.

All tows would be conducted in tandem using one TDD and one LPD for a duration of 60 minutes with a tow speed range of 4-5.5 knots. Both dredges would be 15 feet (4.57 meters) in width using 4-inch (10.16 cm) rings, and would be rigged with a 7-row apron, and twine top hanging ratio of 2:1. Both dredges would be equipped with a regulation turtle chain mat for any tows west of 71° W. longitude. The LPD dredge in comparison to the TDD dredge has a reduced frame angle from 45° to 22.5°, an extended shoe from 15 inches (38.10 cm) to 22 inches (55.88 cm), and a reduced frame height from 15 inches (38.10) to 9.5 inches (24.13 cm). Each tow pair would be conducted in a straight line varying between long (4:1) and short (3:1) scope ratios in an AB-BA alternating pattern. Scope is the ratio of deployed towing cable to ocean depth.

To film finfish interactions, both dredge frames would have an underwater camera attached to the outer frame bars facing the depressor plate. Each interaction would be recorded using Observer XT computer software and would fall into three categories: Horizontal escape where the fish swims perpendicular to the dredge; vertical escape where the fish swims over the frame; and overcome/capture where the fish passes under the cutting bar or through the openings between the depressor plate and cutting bar. Filming will help test the hypothesis that the LPD frame aids in flatfish escapement and reduces interaction time with the dredge potentially, reducing incidental mortality rates.

For all tows, the sea scallop catch would be counted into baskets and weighed. One basket from each dredge would be randomly selected and the scallops would be measured in 5-mm increments to determine size selectivity. Finfish catch would be sorted by species then counted, weighed, and measured in 1-mm increments. Depending on the volume of scallops and finfish captured, the catch would be subsampled as necessary. No catch would be retained for longer than needed to conduct sampling and no catch would be landed for sale.

Project Catch Estimates
Species | lbs | mt
Scallops | 110,231 | 50.00
Yellowtail | 2,000 | 0.91
Winter Flounder | 500 | 0.23
Windowpane Flounder | 3,500 | 1.59
Monkfish | 4,500 | 2.04
Summer Flounder | 150 | 0.007
Barndoor Skate | 500 | 0.23
NE Skate Complex | 75,000 | 34.02
Atlantic Cod | 50 | 0.02
Haddock | 75 | 0.03
Silver/Offshore Hake | 125 | 0.05
Unclassified hakes | 100 | 0.06

CFF needs these exemptions to allow them to conduct experimental dredge towing without being charged DAS, as well as deploy gear in access areas that are currently closed to scallop fishing. Participating vessels need crew size waivers to accommodate science personnel and possession waivers will enable them to conduct finfish sampling activities.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: September 4, 2015.
Jennifer M. Wallace,
Acting Director, Office of Sustainable Fisheries, National Marine Fisheries Service.

[FR Doc. 2015-22834 Filed 9-9-15; 8:45 am]

BILLING CODE 3510-22-P